DEPARTMENT OF HOMELAND SECURITY

Coast Guard

33 CFR Part 138

[USCG-2005-21780]

RIN 1625-AA98

New Oil Pollution Limits of Liability for Vessels—Delaware River Protection Act of 2006 Amendment to the Oil Pollution Act of 1990

AGENCY: Coast Guard, DHS.

ACTION: Notice of policy.

SUMMARY: The Coast Guard announces the enactment of statutory changes that will affect the financial responsibility of vessel owners and operators for oil pollution from their vessels. The Delaware River Protection Act of 2006 amends limits of liability under the Oil Pollution Act of 1990 (OPA 90) for discharges and substantial threats of discharge of oil from vessels. This statutory change will also result in future changes to Coast Guard regulations related to proof of financial responsibility by vessel owners and operators for discharges of oil from vessels.

FOR FURTHER INFORMATION CONTACT: Mr. Benjamin White at 202-493-6863.

SUPPLEMENTARY INFORMATION:

Background and Purpose

The limits of liability for oil removal costs and damages that result from discharges or substantial threats of discharge of oil from vessels, under OPA 90 (33 U.S.C. 2704), were amended by the enactment of the Delaware River Protection Act of 2006 (the Act), title VI of the Coast Guard and Maritime Transportation Act of 2006 (Pub. L. 109-241). The purpose of this notice is—

1. To alert the public of the amended limits of liability for vessels;

2. To notify the public that existing Coast Guard regulations in 33 CFR part 138 entitled “Financial Responsibility for Water Pollution (Vessels)” remain in effect until amended; and

3. To notify the public that a rulemaking project will be initiated to amend the regulations in 33 CFR part 138 to reflect the amended liability limits.

The following table shows the original and amended limits of liability by vessel type:

Limits of Liability

If the vessel is a— | The original limit of liability limit was the greater of— | The amended limits of liability are the greater of—
Tank vessel greater than 3,000 gross tons with a single hull, double sides only, or double bottom only | $1,200 per gross ton or $10,000,000 | $3,000 per gross ton or $22,000,000.
Tank vessel less than or equal to 3,000 gross tons with a single hull, double sides only, or double bottom only | $1,200 per gross ton or $2,000,000 | $3,000 per gross ton or $6,000,000.
Tank vessel greater than 3,000 gross tons with a double hull | $1,200 per gross ton or $10,000,000 | $1,900 per gross ton or $16,000,000.
Tank vessel less than or equal to 3,000 gross tons with a double hull | $1,200 per gross ton or $2,000,000 | $1,900 per gross ton or $4,000,000.
Any vessel other than a tank vessel | $600 per gross ton or $500,000 | $950 per gross ton or $800,000.

Vessel owners, operators and demise charterers that are responsible parties under OPA 90 are liable to the amended limits as follows—

• The amended limits for any tank vessel are effective for an oil discharge or substantial threat of discharge that occurs on or after October 9, 2006.

• The amended limits for any other vessel are effective for an oil discharge or substantial threat of discharge that occurs on or after July 11, 2006.

The changes to the limits of liability created by the Act will result in changes to the requirements for proof of financial responsibility found in the existing “Financial Responsibility for Water Pollution (Vessels)” regulations at 33 CFR part 138. In general, the responsible party for any vessel over 300 gross tons using any place subject to the jurisdiction of the United States, or any vessel using the waters of the exclusive economic zone to transship or lighter oil destined for a place subject to the jurisdiction of the United States, must establish and maintain evidence of financial responsibility (i.e., ability to pay) sufficient to meet the applicable liability limit.

The Coast Guard intends to make changes to existing regulations resulting from the Act. We anticipate initiating a rulemaking that will require vessel owners and operators to provide evidence of financial responsibility to the amended limits of liability, as described above, within 120 days after the final rule is published in the Federal Register. In the interim, the levels of financial responsibility enforceable by the Coast Guard are the total applicable amounts currently found at 33 CFR 138.80(f).

If you have any questions regarding this notice, please submit them to: Mr. Benjamin White, National Pollution Fund Center, 4200 Wilson Blvd., Suite 1000, Arlington, VA 22203.

Dated: July 31, 2006.
Jan P. Lane,
Director, National Pollution Funds Center.

[FR Doc. E6-12936 Filed 8-17-06; 8:45 am]

BILLING CODE 4910-15-P